DEPARTMENT OF AGRICULTURE

Forest Service

Notice of Proposed New Fee Sites; Federal Lands Recreation Enhancement Act

AGENCY: Forest Service.

ACTION: Notice of proposed new fee sites.

SUMMARY: The National Forests in Florida are proposing to charge new fees at four campgrounds for $10 per night and one day use area for $5 per vehicle. All sites have recently been reconstructed, or amenities are being added to improve services and experiences. Fees are assessed based on the level of amenities and services provided, cost of operation and maintenance, market assessment, and public comment. Funds from fees would be used for the continued operation and maintenance of these recreation sites.

DATES: Send any comments about these fee proposals by August 6, 2018 so comments can be compiled, analyzed and shared with a Recreation Resource Advisory Committee. New fees would begin after July 2018.

ADDRESSES: Kelly Russell, Forest Supervisor, National Forests in Florida, 325 John Knox Road, Suite F-100, Tallahassee, FL 32303.

FOR FURTHER INFORMATION CONTACT: Erika Davis, Recreation, Heritage, Engineering, Lands & Minerals Staff Officer, 850-523-8569. Information about proposed fee changes can also be found on the National Forests in Florida website: http://www.fs.usda.gov/florida.

SUPPLEMENTARY INFORMATION: The Federal Recreation Lands Enhancement Act (Title VII, Pub. L. 108-447) directed the Secretary of Agriculture to publish a six month advance notice in the Federal Register whenever new recreation fee areas are established.

The campgrounds proposed for new fees are:

• Wood Lake Campground and Boat Landing on the Apalachicola National Forest.

• Cobb Camp, West Tower Campground, and Wiggins Campground on the Osceola National Forest.

Improvements at these sites include designating campsites, installing fire rings, picnic tables and adding garbage service. Improvements address sanitation and safety concerns, as well as deteriorating resource conditions and recreation experiences. Wood Lake Boat Landing is the day use site proposed at $5 per vehicle. The America the Beautiful, National Parks and Federal Recreational Lands passes would be accepted at these sites. Once public involvement is complete, these new fees will be reviewed by a Recreation Resource Advisory Committee prior to a final decision and implementation.

Dated: May 17, 2018.
Glenn Casamassa,
Associate Deputy Chief, National Forest System.

[FR Doc. 2018-14404 Filed 7-3-18; 8:45 am]

BILLING CODE 3411-15-P